DEPARTMENT OF JUSTICE

Notice of Lodging of Consent Decree Under the Comprehensive Environmental Response, Compensation, and Liability Act and the Delaware Hazardous Substances Cleanup Act

Notice is hereby given that on September 29, 2006, a proposed Consent Decree in United States and the State of Delaware v. E.I. Du Pont De Nemours & Company, Inc., and CIBA Speciality Chemicals Corporation, Civil Action No. 06-612 was lodged with the United States District Court for the District of Delaware.

In this action the United States and the State of Delaware sought claims for natural resource damages brought pursuant to the Comprehensive Environmental Response, Compensation, and Liability Act (“CERCLA”), as amended, 42 U.S.C. 9601 et seq. and the Delaware Hazardous Substance Cleanup Act (“HSCA”), 7 Del. C. Chapter 91 with respect to the release of hazardous substances from DuPont-Newport chemical facility, located in Newport, Delaware. Under the proposed Consent Decree, the defendants will fund restoration projects on the “Pike Property” as set forth in the Damage Assessment and Restoration Plan (“DARP”, attached to the Consent Decree), and the State of Delaware will hold an environmental covenant for the Pike Property to protect it in perpetuity. Defendants will reimburse each Trustee for its Damage Assessment Costs, and make a payment to Delaware for groundwater injuries. Defendants will pay $2,237,205 for the above-mentioned projects and costs.

The Department of Justice will receive for a period of thirty (30) days from the date of this publication comments relating to the Consent Decree. Comments should be addressed to the Assistant Attorney General, Environment and Natural Resources Division, P.O. Box 7611, U.S. Department of Justice, Washington, DC 20044-7611, and should refer to United States and the State of Delaware v. E.I. Du Pont De Nemours & Company, Inc., and CIBA Speciality Chemicals Corporation, D.J. Ref. 90-11-2-883/2.

The Consent Decree may be examined at the Office of the United States Attorney, for the District of Delaware, 1007 Orange Street, Suite 700, Wilmington, Delaware. During the public comment period, the Consent Decree, may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the U.S. Treasury.

A copy of the Consent Decree may also be obtained at the offices of the Delaware Department of Natural Resources and Environmental Control, Division of Air and Waste Management, Site Investigation and Restoration Branch, 391 Lukens Drive, New Castle, Delaware 19720, Main phone number: 302-395-2600, Site Name: DuPont Newport NRDA DE-X009. Contacts: Jane Biggs Sanger, Elizabeth LaSorte, or Robert Newsome. An electronic version of the Consent Decree and the DARP can be viewed at http://apps.dnrec.state.de.us/intraviewer/session/frmmain.cfm.

Robert Brook,
Assistant Chief, Environmental Enforcement Section, Environment and Natural Resources Division.

[FR Doc. 06-8631 Filed 10-11-06; 8:45 am]

BILLING CODE 4410-15-M